DEPARTMENT OF COMMERCE

Foreign-Trade Zones Board

[Docket 69-2011]

Proposed Foreign-Trade Zone; Genesee County, NY, Under Alternative Site Framework

An application has been submitted to the Foreign-Trade Zones (FTZ) Board (the Board) by the Genesee Gateway Local Development Corporation to establish a general-purpose foreign-trade zone at sites in Genesee County, New York, adjacent to the Rochester Customs and Border Protection (CBP) port of entry, under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on October 27, 2011. The applicant is authorized to make the proposal under the New York State County Law, Section 224 (21).

The proposed zone would be the second general-purpose zone for the Rochester CBP port of entry. The existing zone is as follows: FTZ 141, County of Monroe, New York (Grantee: County of Monroe, New York, Board Order 355, 04/15/87).

The applicant's proposed service area under the ASF would be Genesee County, New York. If approved, the applicant would be able to serve sites throughout the service area based on companies' needs for FTZ designation. The proposed service area is adjacent to the Rochester Customs and Border Protection port of entry.

The proposed zone would include two “magnet” sites in Genesee County: Proposed Site 1 (186 acres)—Apple Tree Acres, southeast corner of the intersection of State Route 33 & State Route 19, Bergen; and, Proposed Site 2 (200 acres)—Genesee Valley Agri-Business Park, between State Route 63 and State Route 5, Batavia. Both sites are owned by Genesee Gateway Local Development Corporation. The ASF allows for the possible exemption of one magnet site from the “sunset” time limits that generally apply to sites under the ASF, and the applicant proposes that Site 2 be so exempted.

The application indicates a need for zone services in Genesee County, New York. Several firms have indicated an interest in using zone procedures for warehousing/distribution activities for a variety of products. Specific manufacturing approvals are not being sought at this time. Such requests would be made to the Board on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is January 3, 2012. Rebuttal comments in response to material submitted during the foregoing period may be submitted during the subsequent 15-day period to January 17, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: October 27, 2011.
Andrew McGilvray,
Executive Secretary.

[FR Doc. 2011-28427 Filed 11-1-11; 8:45 am]

BILLING CODE 3510-DS-P